DEPARTMENT OF DEFENSE

Office of the Secretary

[Transmittal No. 16-77]

Arms Sales Notification

AGENCY: Defense Security Cooperation Agency, Department of Defense.

ACTION: Notice.

SUMMARY: The Department of Defense is publishing the unclassified text of an arms sales notification.

FOR FURTHER INFORMATION CONTACT: Pamela Young, (703) 697-9107 or Kathy Valadez, (703) 697-9217; DSCA/DSA-RAN.

SUPPLEMENTARY INFORMATION: This 36(b)(1) arms sales notification is published to fulfill the requirements of section 155 of Public Law 104-164 dated July 21, 1996. The following is a copy of a letter to the Speaker of the House of Representatives, Transmittal 16-77 with attached Policy Justification.

Dated: July 17, 2017.
Aaron Siegel,
Alternate OSD Federal Register Liaison Officer, Department of Defense.

Transmittal No. 16-77

Notice of Proposed Issuance of Letter of Offer Pursuant to Section 36(b)(1) of the Arms Export Control Act, as amended

(i) Prospective Purchaser: Kingdom of Saudi Arabia

(ii) Total Estimated Value:

Major Defense Equipment * | $ 0 million
Other | $750 million
Total | $750 million

(iii) Description and Quantity or Quantities of Articles or Services under Consideration for Purchase:

Major Defense Equipment (MDE): None

Non-MDE includes:

Continuation of a blanket order training program inside and outside of the Kingdom of Saudi Arabia that includes, but is not limited to, flight training, technical training, professional military education, specialized training, mobile training teams (MTTs), and English language training. These blanket order training cases will cover all relevant types of training offered by or contracted through the U.S. Air Force or Department of Defense Agencies (DOD), to include participation in CONUS DOD-sponsored education, as well as MTTs that will travel to Saudi Arabia. This training for the Royal Saudi Air Force (RSAF) and other Saudi forces will include such subjects as civilian casualty avoidance, the law of armed conflict, human rights command and control, and targeting via MTTs and/or broader Programs of Instruction (POIs). Program management, trainers, simulators, travel, billeting, and medical support may also be included.

(iv) Military Department: Air Force

(v) Prior Related Cases, if any:

FMS Case NFS—$44M

FMS Case NFU—$82M

FMS Case THB—$93M

FMS Case THE—$69M

FMS Case THG—$93M

FMS Case NFT—$48M

FMS Case TGP—$53M

FMS Case THD—$73M

FMS Case THF—$39M

(vi) Sales Commission, Fee, etc., Paid, Offered, or Agreed to be Paid: None

(vii) Sensitivity of Technology Contained in the Defense Article or Defense Services Proposed to be Sold: None

(viii) Date Report Delivered to Congress: June 2, 2017

*As defined in Section 47(6) of the Arms Export Control Act.

Policy Justification

Saudi Arabia—Blanket Order Training

The Government of Saudi Arabia requested a possible sale of continued blanket order training program inside and outside of the Kingdom of Saudi Arabia that includes, but is not limited to, flight training, technical training, professional military education, specialized training, mobile training teams (MTTs), and English language training. These blanket order training cases cover all relevant types of training offered by or contracted through the U.S. Air Force or Department of Defense (DoD) Agencies, to include participation in CONUS DOD-sponsored education, as well as MTTs that will travel to Saudi Arabia. This training for the Royal Saudi Air Force (RSAF) and other Saudi forces will include such subjects as civilian casualty avoidance, the law of armed conflict, human rights command and control, and targeting via MTTs and/or broader Programs of Instruction (POIs). Program management, trainers, simulators, travel, billeting, and medical support may also be included. The estimated program cost is $750 million.

This proposed sale will contribute to the foreign policy and national security of the United States by helping to improve the security of an important partner which has been and continues to be a leading contributor of political stability and economic progress in the Middle East.

This training would support the United States' continued commitment to Saudi Arabia's security and strengthen the U.S.-Saudi Arabia strategic partnership. Assisting the RSAF supports Saudi Arabia in deterring hostile actions and increases U.S.-Saudi Arabia military interoperability. It also helps their ability to work with coalition partners during training, exercises, and operations. Saudi Arabia will have no difficulty absorbing this training and support.

The proposed sale of this equipment and support will not alter the basic military balance in the region.

Implementation of this proposed sale will not require the assignment of any additional U.S. Government or contractor representatives to Saudi Arabia.

There will be no adverse impact on U.S. defense readiness as a result of this proposed sale. All defense articles/services have been approved for release.

[FR Doc. 2017-15319 Filed 7-20-17; 8:45 am]

BILLING CODE 5001-06-P